DEPARTMENT OF EDUCATION

34 CFR Chapter III

[Docket No. ED-2020-OPE-0044]

Proposed Waiver and Extension of the Project Period for the Predominantly Black Institutions Competitive Grant Program

AGENCY: Office of Postsecondary Education (OPE), Department of Education.

ACTION: Proposed waiver and extension of project period.

SUMMARY: The Secretary proposes to waive the requirements in the Education Department General Administrative Regulations that generally prohibit project periods exceeding five years and project period extensions involving the obligation of additional Federal funds. The proposed waiver and extension would enable 23 projects under CFDA number 84.382A to receive funding for an additional period, not to exceed September 30, 2021.

DATES: We must receive your comments on or before April 22, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

If you are submitting comments electronically, we strongly encourage you to submit any comments or attachments in Microsoft Word format. If you must submit a comment in Adobe Portable Document Format (PDF), we strongly encourage you to convert the PDF to print-to-PDF format or to use some other commonly used searchable text format. Please do not submit the PDF in a scanned format. Using a print-to-PDF format allows the Department to electronically search and copy certain portions of your submissions.

• Federal eRulemaking Portal: Go to www.regulations.gov to submit your comments electronically. Information on using Regulations.gov, including instructions for accessing agency documents, submitting comments, and viewing the docket, is available on the site under “Help.”

• Postal Mail, Commercial Delivery, or Hand Delivery: The Department strongly encourages commenters to submit their comments electronically. However, if you mail or deliver your comments about the proposed waiver and extension, address them to: The Predominantly Black Institutions Competitive Grant Program, CFDA number 84.382A, Attention: Bernadette Miles, U.S. Department of Education, 400 Maryland Avenue SW, Room 250-22, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Bernadette Miles, U.S. Department of Education, 400 Maryland Avenue SW, Room 250-22, Washington, DC 20202. Telephone: 202-453-7892. Email: Bernadette.Miles@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension.

We invite you to assist us in complying with the specific requirements of Executive Orders 12866, 13563, and 13771 and their overall requirement of reducing regulatory burden that might result from this proposed waiver and extension. Please let us know of any further ways we could reduce potential costs or increase potential benefits while preserving the effective and efficient administration of the program.

During and after the comment period, you may inspect all public comments about this proposed waiver and extension of the project period in Room 5059, 550 12th Street SW, Washington, DC, between the hours of 8:30 a.m. and 4:00 p.m., Eastern time, Monday through Friday of each week, except Federal holidays.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

On May 18, 2015, the Department of Education (Department) published in the Federal Register (80 FR 28248) a notice inviting applications for projects for fiscal year (FY) 2015 under the Predominantly Black Institutions (PBI) Competitive Grant program authorized under Title III, Part F, Section 371 of the Higher Education Act of 1965, as amended (HEA). The purpose of the PBI program is to strengthen PBIs to carry out programs in the following areas: Science, technology, engineering, or mathematics; health education; internationalization or globalization; teacher preparation; or improving educational outcomes of African-American males.

In September 2015, the Department made 23 60-month awards to eligible institutions funded by the PBI Program as follows:

Institution | State
University of West Alabama | AL.
Arkansas State University | AR.
Pulaski Technical College | AR.
South Georgia Technical College | GA.
Albany Technical College | GA.
Oconee Fall Line Technical College | GA.
Augusta Technical College | GA.
Central Georgia Technical College | GA.
Georgia State University | GA.
Malcolm X College | IL.
Olive Harvey College | IL.
Chicago State University | IL.
Mississippi Delta Community College | MS.
Halifax Community College | NC.
Bloomfield College | NJ.
Medgar Evers College | NY.
York College | NY.
Community College of Philadelphia | PA.
Northeastern Technical College | SC.
Florence-Darlington Technical College | SC.
Central Carolina Technical College | SC.
Southwest Tennessee Community College | TN.
Cedar Valley College | TX.

All current project periods for these grantees end on September 30, 2020.

Waivers and Extensions

We are proposing to extend the 23 PBI projects in order to align and coordinate the funding cycles of all discretionary grant programs authorized under Title III, Part F, Section 371 of the Higher Education Act of 1965 (HEA). With the proposed extension, the PBI Program would align with (1) the Alaska Native and Native Hawaiian-serving Institutions program; (2) the Asian American and Native American Pacific Islander-serving program; (3) the Native American-serving Non-Tribal Institutions program; and (4) the Hispanic-Serving Institutions Science, Technology, Engineering, and Mathematics and Articulation Program (HSI-STEM). The waivers and extensions would allow the Department to align and coordinate the award cycles of the Title III, Part F programs, and improve the efficiency and cost-effectiveness of direct training and technical assistance services focused on the competitive strengthening institutions programs. In addition, the Department will consider approaches for improving coordination among programs that provide these services to more efficiently and effectively meet the needs of these institutions and to allow for efficient use of the funding available to support these activities.

We do not believe that it would be in the public interest to run a competition for this program in FY 2020. The program has remaining FY 2019 appropriated funds to be carried over to the current FY 2020 grant cycle and would continue on an award cycle that would not coordinate with the Department's existing part F discretionary grant programs.

The Department has also concluded that it would not be in the public interest to run two consecutive program competitions with the first using the appropriated 2019 carry over funds and the second using the funds appropriated by H.R. 2486, the Fostering Undergraduate Talent by Unlocking Resources for Education (FUTURE) Act, because doing so would increase the burden on the potential applicants.

For these reasons, the Secretary proposes to waive the requirements in 34 CFR 75.250, which prohibit project periods exceeding five years, and the requirements in 34 CFR 75.261(a) and (c)(2), which allow the extension of a project period only if the extension does not involve the obligation of additional Federal funds. The waiver would allow the Department to issue one-time FY 2020 continuation awards to the current PBI Program grantees estimated as follows:

Institution | State | Award
University of West Alabama | AL | $414,672
Arkansas State University | AR | 599,996
Pulaski Technical College | AR | 599,856
South Georgia Technical College | GA | 600,000
Albany Technical College | GA | 600,000
Oconee Fall Line Technical College | GA | 545,459
Augusta Technical College | GA | 591,493
Central Georgia Technical College | GA | 596,148
Georgia State University | GA | 600,000
Malcolm X College | IL | 590,500
Olive Harvey College | IL | 543,246
Chicago State University | IL | 600,000
Mississippi Delta Community College | MS | 600,000
Halifax Community College | NC | 600,000
Bloomfield College | NJ | 600,000
Medgar Evers College | NY | 600,000
York College | NY | 600,000
Community College of Philadelphia | PA | 600,000
Northeastern Technical College | SC | 599,252
Florence-Darlington Technical College | SC | 599,993
Central Carolina Technical College | SC | 599,921
Southwest Tennessee Community College | TN | 600,000
Cedar Valley College | TX | 467,126

Any activities carried out during the year of this continuation award must be consistent with the scope, goals, and objectives of the grantees' applications as approved in the 2015 competition. The requirements for continuation awards are set forth in 34 CFR 75.253.

Regulatory Flexibility Act Certification

The Secretary certifies that the proposed waiver and extension of the project period would not have a significant economic impact on a substantial number of small entities. The only entities that would be affected by the proposed waiver and extension of the project period are the current grantees and any other potential applicants.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-05741 Filed 3-20-20; 8:45 am]

BILLING CODE 4000-01-P